DEPARTMENT OF TRANSPORTATION

Federal Aviation Administration

14 CFR Part 39

[Docket No. FAA-2019-0582; Product Identifier 2019-NM-034-AD; Amendment 39-19769; AD 2019-21-03]

RIN 2120-AA64

Airworthiness Directives; Bombardier, Inc., Airplanes

AGENCY: Federal Aviation Administration (FAA), Department of Transportation (DOT).

ACTION: Final rule.

SUMMARY: The FAA is adopting a new airworthiness directive (AD) for certain Bombardier, Inc., Model CL-600-1A11 (600), CL-600-2A12 (601), and CL-600-2B16 (601-3A and 601-3R Variants) airplanes. This AD was prompted by reports of the loss of all air data system information provided to the flightcrew, which was caused by icing at high altitudes. This AD requires revising the existing airplane flight manual (AFM) to provide the flightcrew with procedures for “Unreliable Airspeed” that stabilize the airplane's airspeed and attitude. The FAA is issuing this AD to address the unsafe condition on these products.

DATES: This AD is effective December 18, 2019.

The Director of the Federal Register approved the incorporation by reference of certain publications listed in this AD as of December 18, 2019.

ADDRESSES: For service information identified in this final rule, contact Bombardier, Inc., 200 Côte-Vertu Road West, Dorval, Québec H4S 2A3, Canada; North America toll-free telephone 1-866-538-1247 or direct-dial telephone 1-514-855-2999; email ac.yul@aero.bombardier.com; internet https://www.bombardier.com. You may view this service information at the FAA, Transport Standards Branch, 2200 South 216th St., Des Moines, WA. For information on the availability of this material at the FAA, call 206-231-3195. It is also available on the internet at https://www.regulations.gov by searching for and locating Docket No. FAA-2019-0582.

Examining the AD Docket

You may examine the AD docket on the internet at https://www.regulations.gov by searching for and locating Docket No. FAA-2019-0582; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Thomas Niczky, Aerospace Engineer, Avionics and Electrical Systems Services Section, FAA, New York ACO Branch, 1600 Stewart Avenue, Suite 410, Westbury, NY 11590; telephone 516-228-7347; fax 516-794-5531; email 9-avs-nyaco-cos@faa.gov.

SUPPLEMENTARY INFORMATION:

Discussion

Transport Canada Civil Aviation (TCCA), which is the aviation authority for Canada, has issued Canadian AD CF-2018-36, dated December 27, 2018 (“Canadian AD CF-2018-36”) (also referred to as the Mandatory Continuing Airworthiness Information, or “the MCAI”), to correct an unsafe condition for certain Bombardier, Inc., Model CL-600-1A11 (600), CL-600-2A12 (601), and CL-600-2B16 (601-3A and 601-3R Variants) airplanes. You may examine the MCAI in the AD docket on the internet at https://www.regulations.gov by searching for and locating Docket No. FAA-2019-0582.

The FAA issued a notice of proposed rulemaking (NPRM) to amend 14 CFR part 39 by adding an AD that would apply to certain Bombardier, Inc., Model CL-600-1A11 (600), CL-600-2A12 (601), and CL-600-2B16 (601-3A and 601-3R Variants) airplanes. The NPRM published in the Federal Register on August 12, 2019 (84 FR 39778). The NPRM was prompted by reports of the loss of all air data system information provided to the flightcrew, which was caused by icing at high altitudes. The NPRM proposed to require revising the existing AFM to provide the flightcrew with procedures for “Unreliable Airspeed” that stabilize the airplane's airspeed and attitude. The FAA is issuing this AD to address the loss of all air data system information provided to the flightcrew. If not addressed, this condition may adversely affect continued safe flight and landing. See the MCAI for additional background information.

Comments

The FAA gave the public the opportunity to participate in developing this final rule. The FAA received no comments on the NPRM or on the determination of the cost to the public.

Explanation of Change to Format of Paragraph Designation References

The FAA has revised the format the agency uses for referring to paragraph designations throughout this AD. This change is necessary to meet the Office of the Federal Register's drafting requirements. For example, where the FAA previously referred to paragraphs (g)(1) and (g)(2) of this AD, we now refer to paragraphs (g)(1) and (2) of this AD. This change does not affect the requirements of this AD.

Conclusion

The FAA reviewed the relevant data and determined that air safety and the public interest require adopting this final rule as proposed, except for minor editorial changes. The FAA has determined that these minor changes:

• Are consistent with the intent that was proposed in the NPRM for addressing the unsafe condition; and

• Do not add any additional burden upon the public than was already proposed in the NPRM.

Related Service Information Under 1 CFR Part 51

Bombardier has issued the “Unreliable Airspeed Procedure,” specified in Unreliable Airspeed, in the Emergency Procedures section of the applicable AFM.

• Canadair Challenger CL-600-1A11 AFM, RAG-600-101, Issue 2, Product Publication 600, Revision A111, dated August 31, 2018.

• Canadair Challenger CL-600-1A11 (Winglets) AFM, RAG-600-101, Issue 2, Product Support Publication (PSP) 600-1, Revision 103, dated August 31, 2018.

• Canadair Challenger CL-600-2A12 AFM, PSP 601-1A, Revision 120, dated August 31, 2018.

• Canadair Challenger CL-600-2A12 AFM, PSP 601-1A-1, Revision 79, dated August 31, 2018.

• Canadair Challenger CL-600-2A12 AFM, PSP 601-1B, Revision 83, dated August 31, 2018.

• Canadair Challenger CL-600-2A12 AFM, PSP 601-1B-1, Revision 81, dated August 31, 2018.

• Canadair Challenger CL-600-2B16 AFM, PSP 601A-1, Revision 103, dated August 31, 2018.

• Canadair Challenger CL-600-2B16 AFM, PSP 601A-1-1, Revision 92, dated August 31, 2018.

These documents are distinct since they apply to different airplane models in different configurations.

This service information is reasonably available because the interested parties have access to it through their normal course of business or by the means identified in the ADDRESSES section.

Costs of Compliance

The FAA estimates that this AD affects 206 airplanes of U.S. registry. The FAA estimates the following costs to comply with this AD:

Estimated Costs for Required Actions
Labor cost | Parts cost | Cost per product | Cost on U.S. operators
1 work-hour × $85 per hour = $85 | $0 | $85 | $17,510

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-21-03 Bombardier, Inc.: Amendment 39-19769; Docket No. FAA-2019-0582; Product Identifier 2019-NM-034-AD.

(a) Effective Date

This AD is effective December 18, 2019.

(b) Affected ADs

None.

(c) Applicability

This AD applies to Bombardier, Inc., airplanes, certificated in any category, identified in paragraphs (c)(1) through (3) of this AD.

(1) Model CL-600-1A11 (600), serial numbers 1001 through 1085 inclusive.

(2) Model CL-600-2A12 (601), serial numbers 3001 through 3066 inclusive.

(3) Model CL-600-2B16 (601-3A and 601-3R Variants), serial numbers 5001 through 5194 inclusive.

(d) Subject

Air Transport Association (ATA) of America Code 34, Navigation.

(e) Reason

This AD was prompted by reports of the loss of all air data system information provided to the flightcrew, which was caused by icing at high altitudes. The FAA is issuing this AD to address the loss of all air data system information provided to the flightcrew. If not addressed, this condition may adversely affect continued safe flight and landing.

(f) Compliance

Comply with this AD within the compliance times specified, unless already done.

(g) Revision of the Airplane Flight Manual (AFM)

Within 30 days after the effective date of this AD: Revise the Emergency Procedures section of the existing AFM to include the information in the “Unreliable Airspeed Procedure,” specified in Unreliable Airspeed, of the applicable AFM specified in figure 1 to paragraph (g) of this AD.

BILLING CODE 4910-13-P

BILLING CODE 4910-13-C

(h) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the local flight standards district office/certificate holding district office.

(2) Contacting the Manufacturer: For any requirement in this AD to obtain instructions from a manufacturer, the instructions must be accomplished using a method approved by the Manager, New York ACO Branch, FAA; or Transport Canada Civil Aviation (TCCA); or Bombardier, Inc.'s TCCA Design Approval Organization (DAO). If approved by the DAO, the approval must include the DAO-authorized signature.

(i) Related Information

(1) Refer to Mandatory Continuing Airworthiness Information (MCAI) Canadian AD CF-2018-36, dated December 27, 2018, for related information. This MCAI may be found in the AD docket on the internet at http://www.regulations.gov by searching for and locating Docket No. FAA-2019-0582.

(2) For more information about this AD, contact Thomas Niczky, Aerospace Engineer, Avionics and Electrical Systems Services Section, FAA, New York ACO Branch, 1600 Stewart Avenue, Suite 410, Westbury, NY 11590; telephone 516-228-7347; fax 516-794-5531; email 9-avs-nyaco-cos@faa.gov.

(j) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) “Unreliable Airspeed Procedure,” from Unreliable Airspeed, in the Emergency Procedures section, of the Canadair Challenger CL-600-1A11 Airplane Flight Manual (AFM), RAG-600-101, Issue 2, Product Publication 600, Revision A111, dated August 31, 2018.

(ii) “Unreliable Airspeed Procedure,” from Unreliable Airspeed, in the Emergency Procedures section, of the Canadair Challenger CL-600-1A11 (Winglets) AFM, RAG-600-101, Issue 2, Product Support Publication (PSP) 600-1, Revision 103, dated August 31, 2018.

(iii) “Unreliable Airspeed Procedure,” from Unreliable Airspeed, in the Emergency Procedures section, of the Canadair Challenger CL-600-2A12 AFM, PSP 601-1A, Revision 120, dated August 31, 2018.

(iv) “Unreliable Airspeed Procedure,” from Unreliable Airspeed, in the Emergency Procedures section, of the Canadair Challenger CL-600-2A12 AFM, PSP 601-1A-1, Revision 79, dated August 31, 2018.

(v) “Unreliable Airspeed Procedure,” from Unreliable Airspeed, in the Emergency Procedures section, of the Canadair Challenger CL-600-2A12 AFM, PSP 601-1B, Revision 83, dated August 31, 2018.

(vi) “Unreliable Airspeed Procedure,” from Unreliable Airspeed, in the Emergency Procedures section, of the Canadair Challenger CL-600-2A12 AFM, PSP 601-1B-1, Revision 81, dated August 31, 2018.

(vii) “Unreliable Airspeed Procedure,” from Unreliable Airspeed, in the Emergency Procedures section, of the Canadair Challenger CL-600-2B16 AFM, PSP 601A-1, Revision 103, dated August 31, 2018.

(viii) “Unreliable Airspeed Procedure,” from Unreliable Airspeed, in the Emergency Procedures section, of the Canadair Challenger CL-600-2B16 AFM, PSP 601A-1-1, Revision 92, dated August 31, 2018.

(3) For service information identified in this AD, contact Bombardier, Inc., 200 Côte-Vertu Road West, Dorval, Québec H4S 2A3, Canada; North America toll-free telephone 1-866-538-1247 or direct-dial telephone 1-514-855-2999; email ac.yul@aero.bombardier.com; internet https://www.bombardier.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, email fedreg.legal@nara.gov, or go to: https://www.archives.gov/federal-register/cfr/ibr-locations.html.

Issued in Des Moines, Washington, on October 18, 2019.
Michael Kaszycki,
Acting Director, System Oversight Division, Aircraft Certification Service.

[FR Doc. 2019-24506 Filed 11-12-19; 8:45 am]

BILLING CODE 4910-13-P